DEPARTMENT OF TRANSPORTATION

Federal Aviation Administration

14 CFR Part 39

[Docket No. FAA-2021-0133; Project Identifier AD-2021-00234-T; Amendment 39-21469; AD 2021-06-03]

RIN 2120-AA64

Airworthiness Directives; The Boeing Company Airplanes

AGENCY: Federal Aviation Administration (FAA), DOT.

ACTION: Final rule; request for comments.

SUMMARY: The FAA is adopting a new airworthiness directive (AD) for all The Boeing Company Model 777F series airplanes. This AD was prompted by a report of a water supply line that detached at a certain joint located above an electronic equipment (EE) cooling filter, leading to water intrusion into the forward EE bay. This AD requires deactivating the potable water system. The FAA is issuing this AD to address the unsafe condition on these products.

DATES: This AD is effective March 5, 2021.

The Director of the Federal Register approved the incorporation by reference of a certain publication listed in this AD as of March 5, 2021.

The FAA must receive comments on this AD by April 19, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-0133.

Examining the AD Docket

You may examine the AD docket at https://www.regulations.gov by searching for and locating Docket No. FAA-2021-0133; or in person at Docket Operations between 9 a.m. and 5 p.m., Monday through Friday, except Federal holidays. The AD docket contains this final rule, any comments received, and other information. The street address for the Docket Operations is listed above.

FOR FURTHER INFORMATION CONTACT: Courtney Kronenberger, Aerospace Engineer, Cabin Safety and Environmental Systems Section, FAA, Seattle ACO Branch, 2200 South 216th St., Des Moines, WA 98198; phone and fax: 206-231-3986; email: Courtney.A.Kronenberger@faa.gov.

SUPPLEMENTARY INFORMATION:

Background

The FAA has received a report of a water supply line that detached above an EE cooling filter, leading to water intrusion into the forward EE bay, on a Model 777F series airplane with 34,000 total flight hours and 6,000 total flight cycles.

During potable water servicing on ground, the operator received multiple messages appearing on the engine indication and crew alert system (EICAS) indicating multiple affected EE line replaceable units (LRUs). Further investigation revealed that the location of a joint on a swaged end fitting ferrule of a corrosion resistant stainless steel (CRES) water supply line had become partially or fully detached from the tube, causing water to spill onto an EE cooling filter (directly below the fitting) in the left-hand sidewall at station (STA) 571. The amount and duration of the water spillage are unknown. The cooling filter became saturated with the water, which was then blown via the EE cooling system into multiple EE LRUs located in the EE bay.

Water that has been ingested or has entered into the EE cooling system via the cooling filter can be circulated to multiple EE racks and can accumulate on the LRUs, particularly where forced air cooling occurs. Water ingress to these LRUs can affect multiple EE bay racks and LRUs, resulting in loss of functionality or inaccurate output of critical electrical systems and possible loss of control of the airplane. The FAA is issuing this AD to address the unsafe condition on these products.

Model 777F series airplanes line numbers (L/Ns) 960 and subsequent have a joint at this location from the factory-installed CRES tube assembly. Boeing released Service Bulletin 777-38-0042 as an economic service bulletin providing operators with airplanes prior to L/N 960 instructions to retrofit to this configuration at their discretion. Therefore, this AD will require deactivation of the potable water system for all 777F with this joint installed either in production or through performance of Boeing SB 777-38-0042.

FAA's Determination

The FAA is issuing this AD because the agency has determined the unsafe condition described previously is likely to exist or develop in other products of the same type design.

Related Service Information Under 1 CFR Part 51

The FAA reviewed Boeing MOM-MOM-21-0089-01B, dated February 26, 2021. This service information specifies procedures for deactivating the potable water system. This service information is reasonably available because the interested parties have access to it through their normal course of business or by the means identified in the ADDRESSES section.

AD Requirements

This AD requires accomplishing the actions specified in the service information already described, except as discussed under “Differences Between this AD and the Service Information.” This AD also prohibits the future accomplishment of the actions specified in Boeing Service Bulletin 777-38-0042.

Difference Between This AD and the Service Information

Boeing MOM-MOM-21-0089-01B, dated February 26, 2021, specifies one Safety Action and six Recommended Actions. Although the FAA recommends accomplishment of all of these actions, this AD requires only deactivation of the potable water system, as specified in the Safety Action of the service information.

Interim Action

The FAA considers this AD to be an interim action. The manufacturer is currently developing a modification that will address the unsafe condition identified in this AD. Once this modification is developed, approved, and available, the FAA might consider additional rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because water that has entered the EE cooling system via the cooling filter can affect multiple EE bay racks and LRUs, resulting in loss of functionality or inaccurate output of critical electrical systems and possible loss of control of the airplane. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include Docket No. FAA-2021-0133 and Project Identifier AD-2021-00234-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Courtney Kronenberger, Aerospace Engineer, Cabin Safety and Environmental Systems Section, FAA, Seattle ACO Branch, 2200 South 216th St., Des Moines, WA 98198; phone and fax: 206-231-3986; email: Courtney.A.Kronenberger@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 58 airplanes of U.S. registry. The FAA estimates the following costs to comply with this AD:

Estimated Costs
Action | Labor cost | Parts cost | Cost per product | Cost on U.S. operators
Deactivation of potable water system | 2 work-hours × $85 per hour = $170 | $0 | $170 | $9,860

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-06-03 The Boeing Company: Amendment 39-21469; Docket No. FAA-2021-0133; Project Identifier AD-2021-00234-T.

(a) Effective Date

This airworthiness directive (AD) is effective March 5, 2021.

(b) Affected ADs

None.

(c) Applicability

This AD applies to all The Boeing Company Model 777F series airplanes, certificated in any category.

(d) Subject

Air Transport Association (ATA) of America Code 38, Water/waste.

(e) Unsafe Condition

This AD was prompted by a report of a water supply line that detached above an electronic equipment (EE) cooling filter, leading to water intrusion into the forward EE bay. The FAA is issuing this AD to address water entering the EE cooling system via the cooling filter, which can affect multiple EE bay racks and line replaceable units (LRUs), resulting in loss of functionality or inaccurate output of critical electrical systems and possible loss of control of the airplane.

(f) Compliance

Comply with this AD within the compliance times specified, unless already done.

(g) Deactivation of Potable Water System

For the airplanes identified in paragraphs (g)(1) and (2) of this AD: Within 5 days after the effective date of this AD, deactivate the potable water system, in accordance with Boeing Multi Operator Message MOM-MOM-21-0089-01B, dated February 26, 2021 (MOM-MOM-21-0089-01B).

(1) Line numbers (L/Ns) 959 and earlier on which the actions specified in Boeing Service Bulletin 777-38-0042 have been accomplished.

(2) L/Ns 960 and subsequent.

Note 1 to paragraph (g): Guidance on deactivating the potable water system can be found in Boeing 777 Aircraft Maintenance Manual (AMM) Task 38-10-00-040-801.

(h) Installation Prohibition

For airplanes not identified in paragraph (g) of this AD: As of the effective date of this AD, accomplishment of the actions specified in Boeing Service Bulletin 777-38-0042 is prohibited.

(i) Reporting Provisions

Although Boeing MOM-MOM-21-0089-01B specifies to report inspection findings, this AD does not require any report.

(j) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in Related Information. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(k) Related Information

For more information about this AD, contact Courtney Kronenberger, Aerospace Engineer, Cabin Safety and Environmental Systems Section, FAA, Seattle ACO Branch, 2200 South 216th St., Des Moines, WA 98198; phone and fax: 206-231-3986; email: Courtney.A.Kronenberger@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Multi Operator Message MOM-MOM-21-0089-01B, dated February 26, 2021.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to https://www.archives.gov/federal-register/cfr/ibr-locations.html.

Issued on March 2, 2021.
Lance T. Gant,
Director, Compliance & Airworthiness Division, Aircraft Certification Service.

[FR Doc. 2021-04713 Filed 3-3-21; 11:15 am]

BILLING CODE 4910-13-P